DEPARTMENT OF THE TREASURY

Internal Revenue Service

Privacy Act of 1974; as Amended

AGENCY: Internal Revenue Service, Treasury.

ACTION: Notice of alteration of Privacy Act system of records.

SUMMARY: The Treasury Department, Internal Revenue Service, gives notice of a proposed alteration to the system of records entitled, “Treasury/IRS 34.022—National Background Investigation Center Management Information System,” which is subject to the Privacy Act of 1974, as amended, 5 U.S.C. 552a.

DATES: Comments must be received no later than December 28, 2005. The alteration will be effective January 9, 2006 unless comments are received that would result in a contrary determination.

ADDRESSES: Comments should be sent to the Office of Governmental Liaison & Disclosure, Internal Revenue Service, 1111 Constitution Avenue, NW., Washington, DC 20224. Comments will be made available for public inspection and copying in the Internal Revenue Service Freedom of Information Reading Room, 1111 Constitution Avenue, NW., Room 1621, Washington, DC 20224, telephone number (202) 622-5164, (not a toll free call).

FOR FURTHER INFORMATION CONTACT: Mary Anderson, Program Analyst, Personnel Security Office, Internal Revenue Service, (703) 647-5477.

SUPPLEMENTARY INFORMATION: The purpose of the alteration is to reflect changes in the system name resulting from system upgrade, system location, record access procedures, and system manager. The alteration will more accurately describe the categories of individuals and records in the system. The alteration is also adding a routine use permitting the disclosure of information to a contractor. The system notice was last published in its entirety in the Federal Register, Vol. 66, Number 237, pages 63817-63818, on December 10, 2001.

The specific changes to the system notice are as follows:

The title of the system of records “National Background Investigation Center Management Information System (NBICMIS)” is being changed to: “Automated Background Investigations System (ABIS). The abbreviation “NBICMIS” which appears throughout the notice is being changed to “ABIS.”

The system location is being changed to National Background Investigations Center, 5 Spiral Drive, Suite 2, Florence, KY 41042-1395. Under “categories of individuals covered by the system,” new categories of contractors are being added, as well as a category for IRS employees that require or hold a security clearance.

The “categories of records” section is being revised by removing the word “timekeeping” and by adding as a category information about security clearances and the status of the clearances.

The Authority for Maintenance of the System is revised to include a new Executive Order 12674 (as modified by Executive Order 12731).

Under “routine uses of records maintained in the system,” a new routine use (routine use (9)), is being proposed to permit disclosure of information to a government contractor.

Under “retrievability” the description is being revised to include additional means of retrieving information.

Under “safeguards” the first sentence is revised to reflect access by additional categories of individuals.

Information provided under “retention and disposal,” “system manager(s) and address,” and “record access procedures” is being updated to reflect changes to records manuals, addresses and titles.

Under “record source categories” the text is being updated to include information obtained from contractors.

Under “exemptions claimed for the system,” the language is being revised to show that the exemption being claimed will be changed from 5 U.S.C. 552a(j)(2) to 5 U.S.C. 552a(k)(5).

In a proposed rulemaking being published separately in the Federal Register, the Department is proposing to amend its regulations at 31 CFR 1.36. The amendment will change the basis of the exemption claimed for this system of records from that which is provided under 5 U.S.C. 552a(j)(2), to that which is provided under 5 U.S.C. 552a(k)(5).

The report of an altered system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The revised notice for Treasury/IRS 34.022—Automated Background Investigations System (ABIS) is published in its entirety below.

Dated: October 3, 2005.
Sandra L. Pack,
Assistant Secretary for Management and Chief Financial Officer.

Treasury/IRS 34.022

System name:

Automated Background Investigations System (ABIS)—Treasury/IRS.

System location:

National Background Investigations Center, 5 Spiral Drive, Suite 2, Florence, KY 41042.

Categories of individuals covered by the system:

Current and former employees of the Internal Revenue Service, Bureau of the Mint within the Department of the Treasury, Federal Law Enforcement Training Center, and private contractors employed by IRS to perform work at IRS facilities, leased space or on IRS systems; contractors employed by the Department of the Treasury; permanent and temporary employees of banks contracted to perform Lockbox activities (the processing of Federal tax payments) for the IRS; and employees of the Internal Revenue Service requiring a security clearance, having their security clearance cancelled or transferred.

Categories of records in the system:

(1) ABIS records contain National Background Investigations Center (NBIC) employee name, office, start of employment, series/grade, title, separation date; (2) ABIS tracking records contain status information on investigations from point of initiation through conclusion; (3) ABIS records contain assigned cases and distribution of time; (4) ABIS case tracking records contain background investigations, and (5) levels of clearance, date of clearance and any change in status of clearance.

Authority for maintenance of the system:

5 U.S.C. 301; 26 U.S.C. 7602, 7608, 7801 and 7803; Executive Order 12674 (as modified by Executive Order 12731).

Purpose(s):

The purpose of ABIS is to: (1) Effectively manage NBIC resources and assess the effectiveness of current NBIC programs as well as assist in determining budget and staff requirements. (2) Provide the technical ability for other components of the Service to analyze trends in integrity matters on an organizational, geographic and violation basis.

Routine uses of records maintained in the system, including categories of users and the purposes of such uses:

Disclosure of returns and return information may be made only as provided by 26 U.S.C. 6103. Records other than returns and return information may be used to: (1) Disclose pertinent information to appropriate Federal, State, local, or foreign agencies, or other public authority, responsible for investigating or prosecuting the violations of, or for enforcing or implementing a statute, rule, regulation, order, or license, where the disclosing agency becomes aware of an indication of a violation or potential violation of civil or criminal law or regulation; (2) Disclose information to the Department of Justice for the purpose of litigating an action or seeking legal advice. Disclosure may be made during judicial processes; (3) Disclose information to a Federal, State, local, or other public authority, maintaining civil, criminal or other relevant enforcement information or other pertinent information, which has requested information relevant to or necessary to the requesting agency's, bureau's, or authority's hiring or retention of an individual, or issuance of a security clearance, license, contract, grant, or other benefit;

(4) Disclose information in a proceeding before a court, adjudicative body, or other administrative body before which the agency is authorized to appear when: (a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(5) Provide information to a Congressional office in response to an inquiry made at the request of the individual to whom the record pertains;

(6) Provide information to the news media in accordance with guidelines contained in 28 CFR 50.2 which relate to an agency's functions relating to civil and criminal proceedings;

(7) Provide information to third parties during the course of an investigation to the extent necessary to obtain information pertinent to the investigation;

(8) Disclose information to a public or professional licensing organization when such information indicates, either by itself or in combination with other information, a violation or potential violation of professional standards, or reflects on the moral, educational, or professional qualifications of an individual who is licensed or who is seeking to become licensed;

(9) Disclose information to a contractor when necessary to perform a government contract.

Policies and practices for storing, retrieving, accessing, retaining, and disposing of records in the system:

Storage:

Paper records and magnetic media.

Retrievability:

By name of individual to whom it applies, social security number, alias, date of birth, case controller, submitting office number, case type, case number or a combination of these fields.

Safeguards:

Access is limited to authorized IRS personnel including IRS and other U.S. Treasury Department contractors who have a direct need to know. Hard copy of data is stored in rooms of limited accessibility except to employees. These rooms are locked after business hours. Access to magnetic media is controlled by computer passwords. Access to specific ABIS records is further limited by computer security programs limiting access to select personnel.

Retention and disposal:

Records are maintained in accordance with IRM 1.15, Records Disposition Handbook.

System manager(s) and address:

Official prescribing policies and practices: Chief, Mission Assurance. Official maintaining the system: Associate Director, Personnel Security and Investigations, National Background Investigations Center, 5 Spiral Drive, Suite 2, Florence, KY 41042.

Notification procedure:

Individuals seeking to determine if this system of records contains a record pertaining to them may inquire in accordance with instructions appearing at 31 CFR part 1, subpart C, appendix B. Inquiries should be addressed as in “Record access procedures” below.

Record access procedures:

Individuals seeking access to this system of records, or seeking to contest its content, may inquire in accordance with instructions appearing at 31 CFR part 1, subpart C, appendix B. Inquiries should be addressed to IRS Personnel Security and Investigations, OS:MA:AP:PS, 5205 Leesburg Pike, Suite 510, Falls Church, VA 22041-3802, Attn: Disclosure Staff.

Contesting record procedures:

26 U.S.C. 7852(e) prohibits Privacy Act amendment of tax records.

Record source categories:

Current and former employees of the Internal Revenue Service, Department of the Treasury, Bureau of the Mint and the Federal Law Enforcement Training Center. Private contractors employed by IRS to perform work at IRS facilities, leased space or on IRS systems. Contractors employed by the Department of the Treasury. Permanent and temporary employees of banks contracted to perform Lockbox activities for the IRS.

Exemptions claimed for the system:

The provisions of the Privacy Act from which this system of records is exempt pursuant to 5 U.S.C. 552a(k)(5) are as follows: 5 U.S.C. 552a(c)(3), (d), (e)(1), (e)(4)(G), (e)(4)(H), (e)(4)(I), and (f). (See 31 CFR 1.36.)

[FR Doc. E5-6588 Filed 11-25-05; 8:45 am]

BILLING CODE 4830-01-P